DEPARTMENT OF ENERGY

Federal Energy Regulatory Commission

[Docket No. IC01-1F-001 FERC Form No. 1-F]

Information Collection Submitted for Review and Request for Comments

January 23, 2002.

AGENCY: Federal Energy Regulatory Commission.

ACTION: Notice of submission for review by the Office of Management and Budget (OMB) and request for comments.

SUMMARY: The Federal Energy Regulatory Commission (Commission) has submitted the energy information collection listed in this notice to the Office of Management and Budget (OMB) for review under provisions of Section 3507 of the Paperwork Reduction Act of 1995 (Public Law 104-13). Any interested person may file comments on the collection of information directly with OMB and should address a copy of those comments to the Commission as explained below. The Commission received comments from two entities. The actual comments themselves are included in Attachment A. These entities commented in response to an earlier Federal Register notice of October 1, 2001 (66 FR 49945). The Commission has responded to these comments in its submission to OMB.

DATES: Comments regarding this collection of information are best assured of having their full effect if received within 30 days of this notification.

ADDRESSES: Address comments to Office of Management and Budget, Office of Information and Regulatory Affairs, Attention: Federal Energy Regulatory Commission, Desk Officer, 725 17th Street, NW., Washington, DC 20503. The Desk Officer may also be reached at (202) 395-7318. A copy of the comments should also be sent to Federal Energy Regulatory Commission, Office of the Chief Information Officer, Attention: Mr. Michael Miller, 888 First Street NE., Washington, DC 20426.

FOR FURTHER INFORMATION CONTACT: Mr. Miller may be reached by telephone at (202) 208-1415, by fax at (202) 208-2425, and by e-mail at mike.miller@ferc.gov.

SUPPLEMENTARY INFORMATION:

Description

The energy information collection submitted to OMB for review contains:

1. Collection of Information: FERC Form 1-F “Annual Report for Nonmajor Public Utilities and Licensees”.

2. Sponsor: Federal Energy Regulatory Commission.

3. Control No.: OMB No. 1902-0029. The Commission is now requesting that OMB approve a three-year extension of the current expiration date, with proposed changes to the existing collection. There is an increase in the reporting burden due to an adjustment in the number of entities who are now subject to the Commission's jurisdiction and as a result must submit this annual report. This increase is partially offset by the proposed elimination of two schedules and certain line items on six other schedules. This is a mandatory information collection requirement.

4. Necessity of Collection of Information: Submission of the information is necessary to enable the Commission to carry out its responsibilities in implementing the provisions of the Federal Power Act (FPA). Under the FPA the Commission may prescribe a system of accounts for jurisdictional companies, and after notice and hearing, may determine the accounts in which particular outlays and receipts will be entered, charged or credited. The FERC Form 1-F is designed to collect financial information from jurisdictional electric utilities and licensees who have generation, transmission, distribution and/or sell electric energy, within the United States and its possessions.

Respondent Description: The respondent universe currently comprises on average, 26 companies subject to the Commission's jurisdiction.

6. Estimated Burden: 832 total burden hours, 26 respondents, 1 response annually, 32 hours per response (average).

7. Estimated Cost Burden to Respondents: 832 hours ÷ 2,080 hours per year × $117,041 per year = $ 46,816 average cost per respondent = $1,801.

Statutory Authority: Sections 304 and 309 of the Federal Power Act (FPA), 16 U.S.C. 825c-825h.

Linwood A. Watson, Jr.,
Acting Secretary.

[FR Doc. 02-2097 Filed 1-28-02; 8:45 am]

BILLING CODE 6717-01-P